ENVIRONMENTAL PROTECTION AGENCY

[ER-FRL-8590-5]

Environmental Impact Statements and Regulations; Availability of EPA Comments

Availability of EPA comments prepared pursuant to the Environmental Review Process (ERP), under section 309 of the Clean Air Act and Section 102(2)(c) of the National Environmental Policy Act, as amended. Requests for copies of EPA comments can be directed to the Office of Federal Activities at 202-564-7146.

An explanation of the ratings assigned to draft environmental impact statements (EISs) was published in FR dated April 6, 2008 (73 FR 19833).

Draft EISs

EIS No. 20070046, ERP No. D-BLM-J65476-CO, Little Snake Resource Management Plan, Implementation, Moffat, Routt and Rio Blanco Counties, Craig, CO

Summary: EPA expressed environmental concerns about the potential for visibility impacts to the Mt. Zirkel Wilderness and Black Canyon Class I areas and potential adverse impacts to water quality and the sagebrush ecosystem. The Final EIS should include measures to address potential ozone impacts, avoid visibility impairment, and the use of phased development to mitigate impacts to areas with high wildlife and scenic value. Rating EC2.

EIS No. 20080413, ERP No. D-FHW-K40269-CA, Mid County Parkway Project, Construct a New Parkway between Interstate 15 (I-15) in the West and State Route 79 (SR-79) in the East, Funding and US Army COE Section 404 Permit, Riverside County, CA

Summary: EPA expressed environmental concerns about impacts to environmental justice communities and the lack of sufficient mobile source air toxics analysis to inform decisions regarding alternatives, design, and mitigation. Rating EC2.

EIS No. 20080441, ERP No. D-FHW-L40236-OR, Sellwood Bridge Project, Rehabilitate or Replace the Bridge Crosses the Willamette River on Southeast Tacoma Street and Oregon State Highway 43, Funding, Multnomah County, OR

Summary: EPA has no objections to the proposed project. Rating LO.

EIS No. 20080448, ERP No. D-NPS-K61169-AZ, Fire Management Plan, Management of Wildland and Prescribed Fire, Protection of Human Life and Property Restoration and Maintenance of Fire Dependent Ecosystems, and Reduction of Hazardous Fuels, Grand Canyon National Park, Coconino County, AZ

Summary: EPA does not object to the Preferred Alternative. Rating LO.

EIS No. 20080486, ERP No. D-AFS-L65561-AK, Logjam Timber Sale Project, Proposes Timber Harvesting from 4 Land Use Designations, Tongass Land and Resource Management Plan, Thorne Bay Ranger District, Tongass National Forest, Prince Wales Island, AK

Summary: EPA expressed environmental concerns about the potential for adverse impacts to aquatic and wildlife resources from road construction, ground-based harvest methods, stream crossings, and cumulative effects from past timber harvest activities. EPA recommends the selection of an alternative that minimizes these impacts. Rating EC1.

EIS No. 20080497, ERP No. D-STA-F03012-00, Alberta Clipper Pipeline Project, Application for a Presidential Permit to Construction, Operation and Maintenance of Facilities in ND, MN and WI

Summary: EPA expressed environmental concerns about impacts to waters and wetlands, and recommended that the final EIS consider additional alternatives and identify additional mitigation measures, including voluntary upland forest mitigation and strategies to reduce diesel emissions during construction. Rating EC2.

EIS No. 20080401, ERP No. DS-FHW-L40186-OR, Sunrise Project, Proposes to Build a New East-West Oriented, Limited-Access Highway between I-205 to Rock Creek Junction, Funding and US Army COE Section 404 Permit, Clackamas County, Oregon

Summary: EPA expressed environmental concerns about the impacts to locally important habitats and open space, as well as wetlands. Furthermore, EPA has concerns regarding environmental justice, stimulated travel and growth effects, air toxics and greenhouse gas emissions, ground water resources, and water quality and quantity impacts that could affect threatened fish species. Rating EC2.

EIS No. 20080475, ERP No. DS-FHW-K50015-CA, Schuyler Heim Bridge Replacement and SR-47 Expressway Improvement Project, New Information related to Health Risk Associated with Air Toxics, Funding, U.S. Coast Guard Bridge Permit, US Army COE Section 10 and 404 Permits, Ports of Long Beach and Los Angeles, Los Angeles County, CA

Summary: EPA expressed environmental concerns about the proposed projects air quality impacts. Rating EC2.

Final EISs

EIS No. 20080505, ERP No. F-FHW-F40415-IN, U.S. 31 Improvement Project (I-465 to IN-38), between I-465 North Leg and IN-38, NPDES Permit and US Army Section 10 and 404 Permits, Hamilton County, IN

Summary: EPA does not object to the proposed project.

EIS No. 20080507, ERP No. F-FHW-K40265-CA, CA-76 Corridor Project, Transportation Improvements from Melrose Drive to South Mission Road, San Diego County, CA

Summary: EPA expressed environmental concerns about impacts from mobile source air toxics.

EIS No. 20080510, ERP No. F-STB-F53019-00, Elgin, Joliet & Eastern Railroad (Finance Docket No. 35087) Proposed Acquisition by Canadian National (CN) Railway and Grand Trunk Corporation to connect all Five of CN's Rail lines, Chicago, Illinois and Gary, Indiana

Summary: EPA expressed environmental concerns about the noise impacts, impacts to wetlands, and insufficient assessments of natural resources, long-term rail operations, and indirect and cumulative impacts.

EIS No. 20080514, ERP No. F-AFS-L65551-ID, Corralled Bear Project, Management of Vegetation, Hazardous Fuels, and Access, Plus Watershed Improvements, Palouse Ranger District, Clearwater National Forest, Latah County, ID

Summary: EPA does not object to the selected action.

EIS No. 20080515, ERP No. F-BLM-J65507-WY, West Antelope Coal Lease Application (Federal Coal Lease Application WYW163340), Implementation, Converse and Campbell Counties, WY

Summary: EPA expressed environmental concerns about air quality impacts.

Dated: February 10, 2009.
Robert W. Hargrove,
Director, NEPA Compliance Division, Office of Federal Activities.

[FR Doc. E9-3139 Filed 2-12-09; 8:45 am]

BILLING CODE 6560-50-P